DEPARTMENT OF COMMERCE

National Oceanic and Atmospheric Administration

RIN 0648-XD819

Gulf of Mexico Fishery Management Council; Public Meeting

AGENCY: National Marine Fisheries Service (NMFS), National Oceanic and Atmospheric Administration (NOAA), Commerce.

ACTION: Notice; scoping workshops.

SUMMARY: The Gulf of Mexico Fishery Management Council (Council) will hold scoping workshops for Coastal Migratory Species Amendments 26 & 28.

DATES: The scoping workshops will be held from Monday, March 30 through Tuesday, April 28, 2015 at nine locations throughout the Gulf of Mexico. The scoping workshops will begin at 6 p.m. and will conclude no later than 9 p.m. For specific dates and locations see SUPPLEMENTARY INFORMATION below.

ADDRESSES: Meeting address: The scoping workshops will be held in the following locations: Mobile, AL; Biloxi, MS; Panama City, St. Petersburg and Key West, FL; Grand Isle, LA; and Galveston, Port Aransas and San Antonio, TX.

Council address: Gulf of Mexico Fishery Management Council, 2203 North Lois Avenue, Suite 1100, Tampa, FL 33607.

FOR FURTHER INFORMATION CONTACT: Ryan Rindone, Fishery Biologist, Gulf of Mexico Fishery Management Council; telephone: (813) 348-1630; fax: (813) 348-1711; email: ryan.rindone@gulfcouncil.org.

SUPPLEMENTARY INFORMATION: The items of discussion in the scoping workshops are as follows:

• Coastal Migratory Pelagics Amendment 26 Scoping Document: CMP Amendment 26 will examine modifications to Gulf of Mexico and South Atlantic king mackerel management, including annual catch limits, annual catch targets, stock boundaries, bag limit sales, and sector-specific accountability measures.

• Coastal Migratory Pelagics Amendment 28 Scoping Document: CMP Amendment 28 will examine modifications to Gulf of Mexico and South Atlantic king mackerel and Spanish mackerel management, including splitting the current federal limited-access king mackerel and federal open-access Spanish mackerel commercial fishing permits into separate Gulf of Mexico and South Atlantic permits.

The scoping workshops will begin at 6 p.m. and conclude at the end of public testimony or no later than 9 p.m. at the following locations:

Monday, March 30, 2015, Renaissance Mobile Riverview Plaza Hotel, 64 South Water Street, Mobile, AL 36602, telephone: (251) 438-4000;

Tuesday, March 31, 2015, Golden Nugget Hotel, 151 Beach Boulevard, Biloxi, MS 39530, telephone: (228) 435-4500;

Monday, April 13, 2015, Hilton Garden Inn, 1101 U.S. Highway 231, Panama City, FL 32405, telephone: (850) 392-1093; Hilton St. Petersburg Carillon Park, 950 Lake Carillon Drive, St. Petersburg, FL 33716, telephone: (727) 540-0050;

Sunday, April 19, 2015, Doubletree Grand Key Resort, 3990 South Roosevelt Boulevard, Key West, FL 33040, telephone: (305) 293-1818;

Thursday, April 23, 2015, Hyatt Place San Antonio Airport, 7615 Jones Maltsberger Road, San Antonio, TX 78216, telephone; (210) 930-2333;

Friday, April 24, 2015, Hampton Inn & Suites, 2208 Highway 361, Port Aransas, TX 78373, telephone: (361) 749-8888;

Monday, April 27, 2015, Hilton Galveston Island Hotel, 5400 Seawall Boulevard, Galveston Island, TX 77551, telephone: (409) 744-5000; and

Tuesday, April 28, 2015, Louisiana Department of Wildlife and Fisheries (LDWF) Fisheries Research Laboratory, 195 Ludwig Annex, Grand Isle, LA 70358.

Copies of the scoping workshop documents can be obtained by calling (813) 348-1630 or visiting www.GulfCouncil.org.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: March 10, 2015.
Tracey L. Thompson,
Acting Deputy Director, Office of Sustainable Fisheries, National Marine Fisheries Service.

[FR Doc. 2015-05759 Filed 3-12-15; 8:45 am]

BILLING CODE 3510-22-P